DEPARTMENT OF ENERGY

Federal Energy Regulatory Commission

[Docket No. RD17-8-000]

Commission Information Collection Activities (FERC-725HH); Comment Request

AGENCY: Federal Energy Regulatory Commission, DOE.

ACTION: Comment request.

SUMMARY: In compliance with the requirements of the Paperwork Reduction Act of 1995, 44 U.S.C. 3507(a)(1)(D), the Federal Energy Regulatory Commission (Commission or FERC) is submitting its information collection FERC-725HH (RF Reliability Standards) to the Office of Management and Budget (OMB) for review of the information collection requirements. Any interested person may file comments directly with OMB and should address a copy of those comments to the Commission as explained below. The Commission previously issued a Notice in the Federal Register (82 FR 53489, 11/16/2017) requesting public comments. The Commission received no comments on the FERC-725HH information collection and is making this notation in its submittal to OMB.

DATES: Comments on the collection of information are due by March 9, 2018.

ADDRESSES: Comments filed with OMB, identified by the OMB Control No. 1902-0256, should be sent via email to the Office of Information and Regulatory Affairs: oira_submission@omb.gov. Attention: Federal Energy Regulatory Commission Desk Officer. The Desk Officer may also be reached via telephone at 202-395-0710.

A copy of the comments should also be sent to the Commission, in Docket No. RD17-8-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, by telephone at (202) 502-8663, and by fax at (202) 273-0873.

SUPPLEMENTARY INFORMATION:

Title: FERC-725HH, RF Reliability Standards.

OMB Control No.: 1902-0256.

Type of Request: Three-year approval of the FERC-725HH information collection requirements, as modified by Docket No. RD17-8-000.

Abstract: The information collected by the FERC-725HH is required to implement the statutory provisions of section 215 of the Federal Power Act (FPA) (16 U.S.C. 824o). Section 215 of the FPA buttresses the Commission's efforts to strengthen the reliability of the interstate grid through the grant of new authority by providing for a system of mandatory Reliability Standards developed by the Electric Reliability Organization (ERO). In July 2006, the Commission certified the North American Electric Reliability Corporation (NERC) as the ERO.¹ Reliability Standards that the ERO proposes to the Commission may include Reliability Standards that are proposed to the ERO by a Regional Entity.² A Regional Entity is an entity that has been approved by the Commission to enforce Reliability Standards under delegated authority from the ERO.³ On March 17, 2011, the Commission approved a regional Reliability Standard submitted by the ERO that was developed by the ReliabilityFirst Corporation (RF).⁴

¹ North American Electric Reliability Corp., 116 FERC ¶ 61,062 (ERO Certification Order), order on reh'g & compliance, 117 FERC ¶ 61,126 (2006), aff'd sub nom. Alcoa, Inc. v. FERC, 564 F.3d 1342 (DC Cir. 2009).

² 16 U.S.C. 824o(e)(4).

³ 16 U.S.C. 824o(a)(7) and (e)(4).

⁴ Planning Resource Adequacy Assessment Reliability Standard, Order No. 747, 134 FERC ¶ 61,212 (2011).

RF promotes bulk electric system reliability in the Eastern Interconnection. RF is the Regional Entity responsible for compliance monitoring and enforcement in the RF region. In addition, RF provides an environment for the development of Reliability Standards and the coordination of the operating and planning activities of its members as set forth in the RF bylaws.

There is one regional Reliability Standard in the RF region. The regional Reliability Standard requires planning coordinators within the RF geographical footprint to analyze, assess and document resource adequacy for load in the RF footprint annually, to utilize a “one day in ten years” loss of load criterion, and to document and post load and resource capability in each area or transmission-constrained sub-area identified.

• BAL-502-RFC-02 (Planning Resource Adequacy Analysis, Assessment and Documentation) ⁵ establishes common criteria, based on “one day in ten year” loss of load expectation principles, for the analysis, assessment, and documentation of resource adequacy for load in the RF region.

⁵ BAL-50-RFC-02 is included in the OMB-approved inventory for FERC-725H.

The Commission's request to OMB reflects the following:

• Implementing the regional Reliability Standard BAL-502-RF-03 and the retirement of regional Reliability Standard BAL-502-RFC-02 ⁶ which is discussed below.

⁶ Burden associated with BAL-502-RF-02 Reliability Standard was once contained in FERC-725H information collection (OMB Control No. 1902-0256). FERC-725H was discontinued on 3/6/2014. However, the requirements of BAL-502-RF-02 were still imposed on NERC entities. Those requirements are now being retired with no removal of burden (any associated burden was removed concurrent with the discontinuance).

On September 7, 2017, NERC and RF filed a joint petition in Docket No. RD17-8-000 ⁷ requesting Commission approval of: (a) Regional Reliability Standard BAL-502-RF-03 (Planning Resource Adequacy Analysis, Assessment and Documentation), and (b) the retirement of regional Reliability Standard BAL-502-RFC-02.⁶ The petition states: “Proposed regional Reliability Standard BAL-502-RF-03 establishes common criteria, based on “one day in ten year” loss of Load expectation principles, for the analysis, assessment, and documentation of Resource Adequacy for Load in the ReliabilityFirst region.” NERC's and RF's joint filing was noticed on September 8, 2017, with interventions, comments and protests due on or before October 10, 2017. In this document, we provide estimates of the burden and cost related to those revisions to FERC-725HH.

⁷ The joint petition and exhibits are posted in the Commission's eLibrary system in Docket No. RD17-8-000.

Type of Respondents: Planning coordinators.

Estimate of Annual Burden: ⁸ Details follow on the changes related to Docket No. RD17-8-000.

⁸ Burden is defined as the total time, effort, or financial resources expended by persons to generate, maintain, retain, or disclose or provide information to or for a Federal agency. For further explanation of what is included in the information collection burden, refer to 5 Code of Federal Regulations 1320.3.

Estimate of Changes to Burden Due to Docket No. RD17-8: The joint petition requested Commission approval of regional Reliability Standard BAL-502-RF-03 and retirement of regional Reliability Standard BAL-502-RFC-02. The estimated effects on burden and cost ⁹ are as follows:

⁹ For BAL-502-RF-03, the hourly cost (for salary plus benefits) uses the figures from the Bureau of Labor Statistics for three positions involved in the reporting and recordkeeping requirements. These figures include salary (http://bls.gov/oes/current/naics2_22.htm) and benefits (http://www.bls.gov/news.release/ecec.nr0.htm) and are:

• Manager (Occupation Code 11-0000): $81.52/hour

• Engineer (Occupation Code 17-2071): $68.12/hour

• File Clerk (Occupation Code 43-4071): $32.74/hour

The hourly cost for the reporting requirements ($60.79) is an average of the cost of a manager, an engineer, and a file clerk.

FERC-725HH, RF Reliability Standards, Changes in Docket No. RD17-8-000
Entity | Number of respondents ¹⁰ | Annual number of responses per respondent | Annual number of responses | Average burden hrs. & cost per response ($) | Total annual burden hours & total annual cost ($) | Cost per respondent ($)
| (1) | (2) | (1) * (2) = (3) | (4) | (3) * (4) = (5) | (5) ÷ (1) = (6)
Proposed Regional Reliability Standard BAL-502-RF-03
Planning Coordinators | 2 | 1 | 2 | 16 hrs.; $973 | 32 hrs.; $1,945 | $973

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹⁰ The number of respondents is derived from the NERC Compliance Registry as of October 2, 2017 for the burden associated with the proposed regional Reliability Standard BAL-502-RF-03.

Dated: February 1, 2018.
Kimberly D. Bose,
Secretary.

[FR Doc. 2018-02411 Filed 2-6-18; 8:45 am]

BILLING CODE 6717-01-P